DEPARTMENT OF HEALTH AND HUMAN SERVICES

Centers for Disease Control and Prevention

[60Day-23-0841; Docket No. CDC-2023-0038]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of Government information, invites the general public and other Federal agencies the opportunity to comment on a continuing information collection, as required by the Paperwork Reduction Act of 1995. This notice invites comment on a proposed information collection project titled “Management Information System for Comprehensive Cancer Control Programs”. The CDC will use annual key informant interviews and biennial NCCCP survey to monitor program outcomes and report progress to CDC yearly.

DATES: CDC must receive written comments on or before July 18, 2023.

ADDRESSES: You may submit comments, identified by Docket No. CDC-2023-0038 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Management Information System for Comprehensive Cancer Control Programs (OMB Control No. 0920-0841, Exp. 7/31/2023)—Revision—National Center for Chronic Disease Prevention and Health Promotion (NCCDPHP), Centers for Disease Control and Prevention (CDC)

Background and Brief Description

CDC requests a Revision of the National Comprehensive Cancer Control Program's (NCCCP) Management Information System for Comprehensive Cancer Control Programs (OMB Control No. 0920-0841, Exp. 7/31/2023) to continue electronic data collection of information about the NCCCP, funded by the Comprehensive Cancer Control Branch of the CDC.

The Comprehensive Cancer Control Branch manages the NCCCP, which provides funding to 66 State health departments and the District of Columbia, US Territories and Freely Associated States, Federally Recognized American Indian Tribes, Tribal Organizations, Alaska Native Organizations, and Urban Indian Organizations; or their Bona Fide Agents, to design, implement, and evaluate comprehensive cancer control plans to reduce the burden of cancer locally. Support for these programs is a cornerstone of CDC efforts to reduce the burden of cancer throughout the nation. Awards to individual applicants are made for a five-year program period. Continuation awards for subsequent budget periods are made on the basis of satisfactory progress in achieving both national and program-specific goals and objectives, as well as the availability of funds.

In 2022, 66 recipients were selected for funding for DP22-2202 (“Cancer Prevention and Control Programs for State, Territorial, and Tribal Organizations”) to implement a program to support cancer coalition efforts that leverage resources to plan and implement evidence-based strategies to promote the primary prevention of cancer; support cancer early detection efforts; address the needs of cancer survivors; and promote health equity.

Consistent with programmatic changes, the proposed data collection plan for DP22-2202 has been redesigned to increase efficiency by updating existing and adding new data collection instruments. This revised data collection will allow CDC to continue providing routine feedback to recipients based on their data submissions, tailor technical assistance as needed, support program planning, and assess program outcomes. In this Revision request, CDC seeks OMB approval to use an interview and web-based survey to collect, store, retrieve, share, and report accurate and timely information to monitor and evaluate recipient performance.

OMB approval is requested for three years. The total estimated annualized burden hours requested are 401 hours. Participation is voluntary and there are no costs to respondents other than their time.

Estimated Annualized Burden Hours
Type of respondents | Form name | Number of respondents | Number of responses per respondent | Average burden per response (in hours) | Total burden (in hours)
Program Director for State-, Tribal-, or Territorial-based Cancer Prevention and Control Program | NCCCP Survey | 132 | 2 | 45/60 | 198
Program Director for State-, Tribal-, or Territorial-based Cancer Prevention and Control Program | NCCCP Annual Key Informant Interview | 54 | 5 | 90/120 | 203
Total |  |  |  |  | 401

Jeffrey M. Zirger,
Lead, Information Collection Review Office, Office of Public Health Ethics and Regulations, Office of Science, Centers for Disease Control and Prevention.

[FR Doc. 2023-10747 Filed 5-18-23; 8:45 am]

BILLING CODE 4163-18-P